DEPARTMENT OF ENERGY

Federal Energy Regulatory Commission

[Project No. 4881-029]

Ada County, Fulcrum, LLC, Barber Pool Hydro, LLC; Notice of Application for Partial Transfer of License and Soliciting Comments, Motions To Intervene, and Protests

On October 28, 2020 and supplemented on January 19, 2021, Ada County, (transferor), Fulcrum, LLC (co-licensee) and Barber Pool Hydro, LLC (transferee) filed jointly an application for partial transfer of license for the Barber Dam Hydroelectric Project No. 4881. The project is located on the Boise, Columbia and Snake rivers, Ada County, Idaho.

The applicants seek Commission approval to partially transfer the license for the Barber Dam Hydroelectric Project from the transferor to the transferee and keeping Fulcrum, LLC and Barber Pool Hydro, LLC as co-licensees.

Applicants Contact: For transferor: Board of Ada County Commissioners, c/o Ada County Prosecuting Attorney, Ms. Lorna K. Jorgensen, Civil Division, 200 W Front Street, Room 3191, Boise, ID 83702, Phone: 208-287-7700, Email: ljorgensen@adacounty.id.gov.

For co-licensee: Fulcrum, LLC, c/o Mr. Randall Osteen, General Counsel, Portfolio Companies, Hull Street Energy, LLC, 4747 Bethesda Ave., Suite 1220, Bethesda, MD 20814, Phone: 410-303-4174, Email: rosteen@hullstreetenergy.com.

For transferee: Barber Pool Hydro, LLC, c/o Ted S. Sorenson, Manager, P.O. Box 1855, Idaho Falls, ID 83403, Phone: 208-589-6908, Email: ted@tsorenson.net; miriah@tsorenson.net.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-4881-029. Comments emailed to Commission staff are not considered part of the Commission record.

Dated: January 25, 2021.
Kimberly D. Bose,
Secretary.

[FR Doc. 2021-01968 Filed 1-28-21; 8:45 am]

BILLING CODE 6717-01-P